DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5:00 p.m. in Room 4211, U.S. Department of Commerce, 14th Street and Constitution Avenue, NW., Washington, DC.

Docket Number: 01-013. Applicant: Stanford University, Department of Biological Sciences, Herrin Labs 80, Off Serra Street, Stanford, CA 94305-5020. Instrument: Electron Microscope, Model JEM-1230. Manufacturer: JEOL Ltd., Japan.

Intended Use: The instrument is intended to be used to carry out a variety of research projects which might include:

1. Ultrastructural studies of cultured hippocampal neurons to identify morphological features of synapse formation,

2. Immuno-labeling studies of various molecules involved in synapse formation between hippocampal neurons,

3. Analysis of the spatial and temporal regulatory circuitry that controls the bacterial cell cycle,

4. Comparative studies of mutant and wild type Drosophila (fruit fly) larvae to identify the role of genes in anatomical features,

5. Immuno-electron microscopy to visualize cellular protein locations in submicron levels in various cell types,

6. Morphological detection of bacterial surface pili, which are virulence factors in many bacterial pathogens,

7. Studies of structural changes in wild type, mutant, and non-virulent cells as they progress through the cell cycle,

8. EM analysis of cellular changes in non-virulent and pathogenic organisms, and

9. Immuno-localization and structural studies of the budding yeast Saccharomyces cerevisiae to identify yeast structures and proteins.

Application accepted by Commissioner of Customs: June 8, 2001.

Gerald A. Zerdy,
Program Manager, Statutory Import Programs Staff.

[FR Doc. 01-15651 Filed 6-20-01; 8:45 am]

BILLING CODE 3510-DS-P